FEDERAL COMMUNICATIONS COMMISSION

47 CFR Chapter I

[CC Docket No. 98-170, WC Docket No. 04-36; DA 19-1271; FRS 16334]

Consumer and Governmental Affairs Bureau Seeks Comment To Refresh the Record on Truth-in-Billing Rules To Ensure Protections for All Consumers of Voice Services

AGENCY: Federal Communications Commission.

ACTION: Proposed rule.

SUMMARY: In this document, the Commission, via the Consumer and Governmental Affairs Bureau (Bureau), seeks to refresh the record on two issues related to the Commission's truth-in-billing rules. Specifically, the Bureau seeks additional comment on proposals to extend the truth-in-billing rules to providers of interconnected Voice over internet Protocol (VoIP) services and to require carriers to separate government-mandated charges from other charges on consumers' telephone bills. The Bureau also seeks additional comment on how to define “government-mandated charge” for these purposes.

DATES: Comments are due February 12, 2020, and reply comments are due March 13, 2020.

ADDRESSES: You may submit comments, identified by CC Docket No. 98-170 and WC Docket No. 04-36, by any of the following methods:

• Federal Communications Commission's Website: http://apps.fcc.gov/ecfs/. Follow the instructions for submitting comments.

• Paper Mail: Parties who choose to file by paper must file an original and one copy of each filing. Filers must submit two additional copies for each additional docket or rulemaking number. Filings can be sent by hand or messenger delivery, by commercial overnight courier, or by first-class or overnight U.S. Postal Service mail. All filings must be addressed to the Commission's Secretary, Office of the Secretary, Federal Communications Commission.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: For further information, contact Erica McMahon of the Consumer and Governmental Affairs Bureau at (202) 418-0346 or Erica.McMahon@fcc.gov.

SUPPLEMENTARY INFORMATION: This is a summary of the Commission's Public Notice, in CC Docket No. 98-170, WC Docket No. 04-36; DA 19-1271, released on December 13, 2019. The full text of document DA 19-1271 will be available for public inspection and copying via the Electronic Comment Filing System (ECFS), and during regular business hours at the FCC Reference Information Center, Portals II, 445 12th Street SW, Room CY-A257, Washington, DC 20554. To request materials in accessible formats for people with disabilities (Braille, large print, electronic files, audio format), send an email to fcc504@fcc.gov or call the Consumer and Governmental Affairs Bureau at (202) 418-0530 (voice), or (202) 418-0432 (TTY).

This matter shall be treated as a “permit-but-disclose” proceeding in accordance with the Commission's ex parte rules. 47 CFR 1.1200 et seq. Persons making oral ex parte presentations are reminded that memorandum summarizing the presentations must contain summaries of the substance of the presentations and not merely a listing of the subjects discussed. More than a one or two sentence description of the views and arguments presented is generally required. See 47 CFR 1.1206(b). Other rules pertaining to oral and written ex parte presentations in permit-but-disclose proceedings are set forth in § 1.1206(b) of the Commission's rules, 47 CFR 1.1206(b).

Synopsis

1. In the Public Notice, the Bureau seeks comment on several issues related to the Commission's truth-in-billing rules. Specifically, the Bureau seeks additional comment on proposals to extend the truth-in-billing rules to providers of interconnected VoIP services and to require carriers to separate government-mandated charges from other charges on consumers' telephone bills.

2. First, the Bureau seeks comment on extending the Commission's existing truth-in-billing rules, which currently apply only to wireline and wireless common carriers, to interconnected VoIP service providers. The Commission previously sought comment on this issue. See IP-Enabled Services, WC Docket No. 04-36, Notice of Proposed Rulemaking, published at 69 FR 16193, March 29, 2004. The Bureau seeks to refresh the record in light of the increasing numbers of consumers who have replaced their traditional circuit-switched phone service with interconnected VoIP service. Would consumers of interconnected VoIP service benefit from the truth-in-billing rules? Would such rules aid consumers both in determining whether to subscribe to an interconnected VoIP service in the first place and, thereafter, in assessing a provider's ongoing fees and conditions vis-à-vis those of other providers? Would rules requiring that charges be clear and conspicuous enhance interconnected VoIP consumers' ability to detect erroneous charges and unauthorized changes in their service arrangements?

3. If the Commission were to extend the truth-in-billing rules to interconnected VoIP services, what rules should it extend, i.e., those that currently are designed to apply to legacy wireline carriers or the more recent rules that apply to wireless carriers? In other words, what rules are appropriate for interconnected VoIP and how should they apply? And should the Commission take the opportunity to revisit the need for any possibly outdated rules? If so, the Bureau seeks comment on why any such rules no longer benefit consumers.

4. Second, the Bureau seeks to refresh the record on whether the Commission should require all voice service providers to separate on consumer bills those line-item fees that are government-mandated from those that are not to the extent they include separate line items on a consumer's bill. See Truth-in-Billing and Billing Format, CC Docket No. 98-170, CG Docket No. 04-208, Second Report and Order, Declaratory Ruling, and Second Further Notice of Proposed Rulemaking, published at 70 FR 30044, May 25, 2005. Would such an approach serve the Commission's historical truth-in-billing goal “to aid customers in understanding their telecommunications bills, and to provide them with the tools they need to make informed choices in the market for telecommunications services”? If the Commission were to require such separation, what would be the most consumer-beneficial way to do so while minimizing regulatory burdens on voice service providers? Should the Commission consider steps beyond simple separation and require that different charges appear in a distinct section of the consumer's bill, one clearly labeled to show that it contains government-mandated charges? Some service providers promote all-inclusive prices, with no added line-item charges, for certain offerings. How should the Commission address government-mandated charges in this context?

5. The Bureau seeks additional comment on how to define “government-mandated charge” for these purposes. In the Truth-in-Billing FNPRM, the Commission noted that mandated charges could be defined as those that providers are required by law to collect from consumers and remit directly to federal, state, or local governments, or could also include charges that providers are not required to collect from consumers but choose to do so through separate line items, to reimburse themselves for their own payments toward government programs. Under this definition, charges for universal service, state and local taxes, 911/E911, and other line-item fees should be considered government-mandated. The Bureau seeks further comment on how to define government-mandated charges.

6. In contrast, most other line-item charges would not be considered government-mandated. For example, charges historically associated with network access, such as the Subscriber Line Charge and Access Recovery Charge; charges designed to recover the administrative or other costs for complying with federal and state law, such as a “Regulatory Fee” or “Regulatory Cost Recovery Charge;” and charges to reimburse providers for more general operating costs, such as permit fees, application fees, or licensing fees, are not charges remitted to the government but are line items collected by carriers of their own volition. The Bureau seeks comment on whether such fees should be separated from government-mandated charges.

7. The Commission's authority to adopt truth-in-billing rules for common carriers derives in large part from section 201(b) of the Communications Act to deter carriers from engaging in unjust and unreasonable practices.

The Bureau seeks to refresh the record on the Commission's authority to extend the truth-in-billing rules to interconnected VoIP service providers, including both two-way and one-way interconnected VoIP services.

Federal Communications Commission.
Gregory Haledjian,
Legal Advisor, Consumer and Governmental Affairs Bureau.

[FR Doc. 2020-00260 Filed 1-10-20; 8:45 am]

BILLING CODE 6712-01-P